DEPARTMENT OF THE INTERIOR

National Park Service

National Capital Memorial Advisory Commission; Notice of Public Meeting

AGENCY: Department of the Interior, National Park Service, National Capital Memorial Advisory Commission.

ACTION: Notice of meeting.

SUMMARY: Notice is hereby given that a meeting of the National Capital Memorial Advisory Commission (the Commission) will be held on Thursday, July 29, 2004, at 1:30 p.m., at the National Building Museum, Room 312, 5th and F Streets, NW., Washington, DC.

The purpose of the meeting will be to discuss currently authorized and proposed memorials in the District of Columbia and its environs. In addition to discussing general matters and conducting routine business, the Commission will review the status of legislative proposals introduced in the 108th Congress to establish memorials in the District of Columbia and its environs, as follows:

Action Items

(1) Site Selection Study, Victims of communism Memorial.

(2) Legislation currently under consideration by the 108th Congress.

Informational Items

(1) Status reports on Congressional actions taken on bills previously reviewed by the Commission.

Other Business

(1) General matters and routine business.

The meeting will be open to the public. Any person may file with the Commission a written statement concerning the matters to be discussed. Persons who wish to file a written statement or testify at the meeting or who want further information concerning the meeting may contact Ms. Nancy Young, Secretary to the Commission, at (202) 619-7097.

DATES: July 29, 2004, at 1:30 p.m.

ADDRESSES: Room 312, National Building Museum, 5th and F Streets, NW., Washington, DC 20001.

FOR FURTHER INFORMATION CONTACT: Ms. Nancy Young, Secretary to the Commission, 202-619-7097.

SUPPLEMENTARY INFORMATION: The Commission was established by Pub. L. 99-652, the Commemorative Works Act (40 U.S.C. Chapter 89 et seq.), to advise the Secretary of the Interior (the Secretary) and the Administrator, General Services Administration, (the Administrator) on policy and procedures for establishment of (and proposals to establish) commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are a follows:

Director, National Park Service

Chairman, National Capital Planning Commission

Architect of the Capitol

Chairman, American Battle Monuments Commission

Chairman, Commission of Fine Arts

Mayor of the District of Columbia

Administrator, General Services Administration

Secretary of Defense

Dated: May 14, 2004.
Terry R. Carlstrom,
Regional Director, National Capital Region.

[FR Doc. 04-14547 Filed 6-25-04; 8:45 am]

BILLING CODE 4310-70-M